ENVIRONMENTAL PROTECTION AGENCY

40 CFR Part 63

[EPA-HQ-OAR-2004-0022; FRL-8483-8]

RIN 2050-AG29

NESHAP: National Emission Standards for Hazardous Air Pollutants: Standards for Hazardous Waste Combustors; Extension of Comment Period

AGENCY: Environmental Protection Agency (EPA).

ACTION: Solicitation of comment on legal analysis; extension of comment period.

SUMMARY: EPA is announcing that the comment period to the notice entitled “NESHAP: National Emission Standards for Hazardous Air Pollutants: Standards for Hazardous Waste Combustors; Solicitation of Comment on Legal Analysis,” published on September 27, 2007 (72 FR 54875), is being extended until November 27, 2007. In that notice, EPA discusses the standards for hazardous waste combustors that were promulgated on October 12, 2005 (70 FR 59402), and specifically identifies which standards EPA believes are consistent with the Clean Air Act and case law, and which standards are not and need to be reexamined through a subsequent rulemaking. This analysis of the standards is being done in response to several opinions issued by the United States Court of Appeals for the District of Columbia Circuit that call into question the legality of some of the standards for hazardous waste combustors.

DATES: The comment period for this notice is extended from the original closing date of October 18, 2007 to November 27, 2007.

ADDRESSES: Submit your comments, identified by Docket ID No. EPA-HQ-OAR-2004-0022, by one of the following methods:

• www.regulations.gov: Follow the on-line instructions for submitting comments.

• E-mail: a-and-r-docket@epa.gov.

• Fax: 202-566-1741.

• Mail: U.S. Postal Service, send comments to: Air and Radiation Docket (2822T), Docket ID No. EPA-HQ-OAR-2004-0022, U.S. Environmental Protection Agency, 1200 Pennsylvania Avenue, NW., Washington, DC 20460. Please include a total of two copies.

• Hand Delivery: In person or by courier, deliver comments to: HQ EPA Docket Center, Public Reading Room, EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2004-0022. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or e-mail (see instructions below on procedures to submit CBI information). The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information the disclosure of which is restricted by statute. Certain other material, such as copyrighted material, will be publicly available only in hard copy. Publicly available docket materials are available either electronically in www.regulations.gov or in hard copy at the HQ EPA Docket Center, Public Reading Room, EPA West, Room 3334, 1301 Constitution Avenue, NW., Washington, DC 20004. The Public Reading Room is open from 8:30 a.m. to 4:30 p.m., Monday through Friday, excluding legal holidays. The telephone number for the Public Reading Room is (202) 566-1744, and the telephone number for the HQ EPA Docket Center is (202) 566-1742. A reasonable fee may be charged for copying docket materials.

FOR FURTHER INFORMATION CONTACT: For more information on this notice, contact Frank Behan at (703) 308-8476, or behan.frank@epa.gov, Office of Solid Waste (5302P), U.S. Environmental Protection Agency, 1200 Pennsylvania Ave., NW., Washington, DC 20460.

SUPPLEMENTARY INFORMATION: Comment Period. We are extending the comment period by approximately five weeks in response to several entities' requests for more time to respond to the notice that was published on September 27, 2007 (72 FR at 54875). As a result, the public comment period will be extended to 60 days and will now end on November 27, 2007.

Entities Potentially Affected by this Action. Categories and entities potentially affected by this action include:

Category | NAICS code ᵃ | Potentially affected entities
Petroleum and coal products manufacturing | 324 | Any entity that combusts hazardous waste as defined in the final rule.
Chemical manufacturing | 325
Cement and concrete product manufacturing | 3273
Other nonmetallic mineral product manufacturing | 3279
Waste treatment and disposal | 5622
Remediation and other waste management services | 5629
ᵃ North American Industry Classification System.

This table is not intended to be exhaustive, but rather provides a guide for readers regarding entities likely to be impacted by this action. This table lists examples of the types of entities EPA is now aware could potentially be regulated by this action. Other types of entities not listed could also be affected. To determine whether your facility, company, business, organization, etc., is affected by this action, you should examine the applicability criteria in 40 CFR 63.1200. If you have any questions regarding the applicability of this action to a particular entity, consult the person listed in the preceding FOR FURTHER INFORMATION CONTACT section.

How Do I Obtain a Copy of this Document and Other Related Information? In addition to being available in the docket, an electronic copy of today's notice will also be available on the World Wide Web (WWW). Following the Administrator's signature, a copy of this document may be posted on the WWW at http://www.epa.gov/hwcmact. This Web site also provides other information related to the NESHAP for hazardous waste combustors including the final rule issued on October 12, 2005 (70 FR 59402) and the notice published on September 27, 2007 (72 FR 54875).

How Do I Submit Comments That Include Confidential Business Information (CBI)? Do not submit CBI information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI to only the following address: Ms. LaShan Haynes, RCRA Document Control Officer, EPA (Mail Code 5305P), Attention Docket ID No. EPA-HQ-OAR-2004-0022, 1200 Pennsylvania Avenue, Washington DC 20460.

List of Subjects in 40 CFR Part 63

Environmental protection, Air pollution control, Hazardous substances, Reporting and recordkeeping requirements.

Dated: October 9, 2007.
Matt Hale,
Director, Office of Solid Waste.

[FR Doc. E7-20596 Filed 10-17-07; 8:45 am]

BILLING CODE 6560-50-P